INTERNATIONAL TRADE COMMISSION

[Inv. No. 337-TA-1347]

Institution of Investigation; Certain Location-Sharing Systems, Related Software, Components Thereof, and Products Containing Same

AGENCY: U.S. International Trade Commission.

ACTION: Notice.

SUMMARY: Notice is hereby given that a complaint was filed with the U.S. International Trade Commission on November 16, 2022, under section 337 of the Tariff Act of 1930, as amended, on behalf of Advanced Ground Information Systems, Inc. of Jupiter, Florida and AGIS Software Development LLC of Marshall, Texas. The complaint was supplemented on December 13, 2022. The complaint, as supplemented, alleges violations of section 337 based upon the importation into the United States, the sale for importation, and the sale within the United States after importation of certain location-sharing systems, related software, components thereof, and products containing same by reason of the infringement of certain claims of U.S. Patent No. 8,213,970 (“the '970 patent”); U.S. Patent No. 9,467,838 (“the '838 patent”); U.S. Patent No. 9,445,251 (“the '251 patent”); U.S. Patent No. 9,749,829 (“the '829 patent”); and U.S. Patent No. 9,820,123 (“the '123 patent”). The complaints further allege that an industry in the United States exists as required by the applicable Federal Statute. The complainants request that the Commission institute an investigation and, after the investigation, issue a limited exclusion order and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2021).

Scope of Investigation: Having considered the complaint, the U.S. International Trade Commission, on December 22, 2022, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 2 and 10-13 of the '970 patent; claims 1, 3, 5-10, 16, 19, 25, 38, 40, 54-56, 61-64, 68, 71, 72, 80 and 84 of the '838 patent; claims 1, 2, 5, 7, 8, 23-25, 28-31, and 35 of the '251 patent; claims 1, 8, 34, 35, 41, and 68 of the '829 patent; claims 14 and 36-38 of the '123 patent, and whether an industry in the United States exists as required by subsection (a)(2) of section 337;

(2) Pursuant to section 210.10(b)(1) of the Commission's Rules of Practice and Procedure, 19 CFR 210.10(b)(1), the plain language description of the accused products or category of accused products, which defines the scope of the investigation, is “mobile devices containing location-sharing software, mobile phones and tablets containing location-sharing software, notebook and laptop computers containing location-sharing software, and associated components thereof”;

(3) Pursuant to Commission Rule 210.50(b)(l), 19 CFR 210.50(b)(1), the presiding administrative law judge shall take evidence or other information and hear arguments from the parties or other interested persons with respect to the public interest in this investigation, as appropriate, and provide the Commission with findings of fact and a recommended determination on this issue, which shall be limited to the statutory public interest factors set forth in 19 U.S.C. 1337(d)(l), (f)(1), (g)(1);

(4) For the purpose of the investigation so instituted, the following are hereby named as parties upon which this notice of investigation shall be served:

(a) The complainants are:

Advanced Ground Information Systems, Inc., 92 Lighthouse Dr., Jupiter, FL 33469

AGIS Software Development LLC, 100 West Houston Street, Marshall, TX 75671

(b) The respondents are the following entities alleged to be in violation of section 337, and are the parties upon which the complaint is to be served:

Google LLC, 1600 Amphitheatre Parkway, Mountain View, CA 94043

Samsung Electronics, Co., Ltd., 12 Samsung-Ro, Maetan-3dong, Yeongtong-gu, Suwon, 443-742, Republic of Korea

Samsung Electronics America, Inc., 85 Challenger Rd., Ridgefield Park, New Jersey 07660

OnePlus Technology (Shenzhen) Co., Ltd., 18F, Tairan Building, Block C, Tairan 8th Road, Chgongmiao, Futian District, Shenzhen, Guangdong 518040, China

TCL Technology Group Corporation, 22/F, TCL Technology, Building, No. 17, Huifeng 3rd Road, Zhongkai High-Tech Development District, Huizhou, Guangdong, China 516006

TCL Electronics Holdings Limited, 7th Floor, Building 22E, 22 Science Park East Avenue, Hong Kong Science Park, Hong Kong

TCL Communication Technology Holdings, Limited, 5/F, Building 22E, 22 Science Park East Avenue, Hong Kong Science Park, Shatin, New Territories, Hong Kong

TCT Mobile (US) Inc., 25 Edelman, Suite 200, Irvine, CA 92618

Lenovo Group Ltd., 6 Chuang ye Road, Haidian District, Beijing 100085, China

Lenovo (United States) Inc., 1009 Think Place, Building One, Morrisville, NC 27560

Motorola Mobility LLC, 222 W Merchandise Mart Plaza, Suite 1800, Chicago, IL 60654

HMD Global, Karaportti 2, FIN-02610, Espoo, Finland

HMD Global OY, Bertel Jungin aukio 9, 02600, Espoo, Finland

HMD America, Inc., 1200 Brickell Ave., Suite 510, Miami, FL 33131

Sony Corporation, 1-7-1 Konan Minato-ku, Tokyo, 108-0075, Japan

Sony Mobile Communications, Inc., 4-12-3 Higashi-Shinagawa, Shinagawa-ku, Tokyo, 140-0002, Japan

ASUSTek Computer Inc., No. 15, Li-Te Rd., Beitou Dist., Taipei 112, Taiwan

ASUS Computer International, 48720 Kato Rd., Fremont, CA 94538

BLU Products, 10814 NW 33rd Street, Doral, FL 33172

Panasonic Corporation, 1006 Oaza Kadoma-shi, Kadoma 571-8501, Osaka, Japan

Panasonic Corporation of North America, 1 Panasonic Way, Secaucus, New Jersey 07094

Kyocera Corporation, 6 Takeda Tobadono-cho, Fushmi-ku, Kyoto, Japan 612-8501

Xiaomi Corporation, Maples Corporate Services Limited, P.O. Box 309, Ugland House, Grand Cayman, KY1-1104, Cayman Islands

Xiaomi H.K. Ltd., Unit 806, Tower 2 8/F, Cheung Sha Wan Plaza, 833 Cheung Sha Wan Road, Kowloon City, Hong Kong

Xiaomi Communications Co., Ltd., Xiaomi Office Building, 68 Qinghe Middle Street, Haidian District, Beijing, China 100085

Xiaomi Inc., Xiaomi Office Building, 68 Qinghe Middle Street, Haidian District, Beijing, China 100085

(c) The Office of Unfair Import Investigations, U.S. International Trade Commission, 500 E Street SW, Suite 401, Washington, DC 20436; and

(5) For the investigation so instituted, the Chief Administrative Law Judge, U.S. International Trade Commission, shall designate the presiding Administrative Law Judge.

Responses to the complaint, as supplemented, and the notice of institution of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainants of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: December 22, 2022.
Katherine Hiner,
Acting Secretary to the Commission.

[FR Doc. 2022-28408 Filed 12-29-22; 8:45 am]

BILLING CODE 7020-02-P